DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Tobacco Regulation for Substance Abuse Prevention and Treatment—45 CFR Part 96 (OMB No. 0930-0165; extension, no change)—This final rule provides guidance to States regarding compliance with section 1926 of the Public Health Service Act related to sale and distribution of tobacco to minors. The final rule implements section 1926 by specifying the content of the State's annual report on the provisions of the rule and application for block grant funds. The reporting burden shown below represents the average total hours to assemble, format and produce the information for the block grant provision on minors' access to tobacco, in accordance with the requirements of 45 CFR Part 96. These burden hours will be counted towards the total burden for the annual Substance Abuse Prevention and Treatment Block Grant Application Format (OMB No. 0930-0080) for which separate approval is obtained.

45 CFR citation | Number of respondents | Responses/respondent | Hours/ response | Total hour burden
Annual report:
96.122(f) | 59 | 1 | 0 | ¹0
96.130(e)(1-3) | 59 | 1 | 15 | 885
State Plan:
96.122(g)(21) | 0 | 0 | 0 | ²0
96.130(e)(4-5) | 59 | 1 | 14 | 826
96.130(g) | 59 | 1 | 5 | 295
Total |  |  | 34 | 2,006
¹ This section describes requirements for the first applicable, which has passed for all States. Therefore, no burden is associated with this section.
² This section duplicates the information collection language in section 96.130(e). The burden is shown for 96.130(e).

Send comments to Nancy Pearce, SAMHSA Reports Clearance Officer, Room 16-105, Parklawn Building, 5600 Fishers Lane, Rockville, MD 20857. Written comments should be received within 60 days of this notice.

Dated: September 12, 2000.
Richard Kopanda,
Executive Officer, SAMHSA.

[FR Doc. 00-23866 Filed 9-15-00; 8:45 am]

BILLING CODE 4162-20-P